Title 3—

The President

Presidential Determination No. 03-10 of January 10, 2003

Presidential Determination on Waiver of Conditions on

Obligation and Expenditure of Funds for Planning, Design, and Construction of a Chemical Weapons Destruction Facility in Russia

Memorandum for the Secretary of State

Pursuant to the authority vested in me by section 8144 of the Department of Defense Appropriations Act for Fiscal Year 2003 (Public Law 107-248) (the “Act”), I hereby certify that waiving the conditions described in section 1305 of the National Defense Authorization Act for Fiscal Year 2000 (Public Law 106-65) is important to the national security interests of the United States, and include herein, for submission to the Congress, the statement, justification, and plan described in section 8144(a) of the Act. You are authorized and directed to transmit this certification, including the statement, justification, and plan to the Congress and to arrange for its publication in the Federal Register.

B

THE WHITE HOUSE,

Washington, January 10, 2003.

Billing code 4710-10-P

[FR Doc. 03-1237

Filed 1-16-03; 8:45 am]

Billing code 4710-10-C